COMMITTEE FOR PURCHASE FROM PEOPLE WHO ARE BLIND OR SEVERELY DISABLED

Procurement List; Proposed Additions and Deletions

AGENCY: Committee for Purchase from People Who Are Blind or Severely Disabled.

ACTION: Proposed Additions to and Deletions from the Procurement List.

SUMMARY: The Committee is proposing to add services to the Procurement List that will be provided by nonprofit agencies employing persons who are blind or have other severe disabilities, and deletes products and services previously furnished by such agencies.

DATES: Comments Must Be Received On Or Before: 8/19/2013.

ADDRESSES: Committee for Purchase From People Who Are Blind or Severely Disabled, 1401 S. Clark Street, Suite 10800, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

The following services are proposed for addition to the Procurement List for production by the nonprofit agencies listed:

Services

Service Type/Location: Custodial Service, Superior National Forest Supervisors Office, 8901 Grand Avenue, Duluth, MN

NPA: Goodwill Industries Vocational Enterprises, Inc., Duluth, MN

Contracting Activity: Department of Agriculture, Forest Service, Superior National Forest, Duluth, MN

Service Type/Location: Vehicle Marshaling Service, GSA Rocky Mountain Region, Rapid City, SD

NPA: BH Services, Inc., Elsworth AFB, SD

Contracting Activity: GSA/FSS Regional Fleet MGT Office, Fort Worth, TX

Service Type/Location: Secure Document Destruction Service, Blanchfield Army Community Hospital, 2424 20th Street, Fort Campbell, KY

NPA: Goodwill Industries of Kentucky, Inc., Louisville, KY

Contracting Activity: DEPT OF THE ARMY, W40M SOUTHEAST RGNL CONTRG OFC, FORT GORDON, GA

Service Type/Location: Janitorial Service, US Immigration and Customs Enforcement, VA Hudson Valley HealthCare System Campus, Building 7 (Floors 1, 2, 3 & Basement), Route 9D, Castle Point, NY

NPA: Occupations, Inc., Middletown, NY

Contracting Activity: DEPARTMENT OF HOMELAND SECURITY, U.S. IMMIGRATION AND CUSTOMS ENFORCEMENT, WASHINGTON, DC

Deletions

The following products and services are proposed for deletion from the Procurement List:

Products

NSN: 8465-01-592-1361—Sheath, Combination Tool Plastic

NPA: Development Workshop, Inc., Idaho Falls, ID

Contracting Activity: General Services Administration, Fort Worth, TX

NSN: 8125-00-NIB-0031—Spray Bottle, GS High Dilution 256 Neutral Disinfectant, Silk Screened, 12-32oz bottles

NPA: Susquehanna Association for the Blind and Vision Impaired, Lancaster, PA

Contracting Activity: Department Of Veterans Affairs, NAC, Hines, IL

Services

Service Type/Location: Industrial Laundry Service, Bureau of Engraving and Printing, 9000 Blue Mound Road, Fort Worth, TX

NPA: Goodwill Industrial Services of Fort Worth, Inc., Fort Worth, TX

Contracting Activity: Dept of Treasury, Bureau Of Engraving And Printing, Washington DC

Service Types/Location: Mailroom/Communications Center Operation, Administrative Service, Department of Agriculture, Farm Service Agency, 6501 Beacon Drive, Kansas City, MO

NPA: JobOne, Independence, MO

Contracting Activity: Dept of Agriculture, Farm Service Agency, Kansas City Acquisition Branch, Kansas City, MO

Barry S. Lineback,
Director, Business Operations.

[FR Doc. 2013-17372 Filed 7-18-13; 8:45 am]

BILLING CODE 6353-01-P